DEPARTMENT OF HEALTH AND HUMAN SERVICES

Administration for Children and Families

Submission for OMB Review; Comment Request

Title: Interstate Referral Guide (IRG).

OMB No.: 0970-0209.

Description: The Intergovernmental Referral Guide (IRG) is a centralized and automated repository of state and tribal profiles, which contain high-level descriptions of each state and tribal child support enforcement (CSE) program. These profiles provide state and tribal CSE agencies, and foreign countries with an effective and efficient method for updating and accessing information needed to process intergovernmental child support cases.

Respondents: All state and tribal CSE agencies; foreign countries and Canadian provinces with federal reciprocity; and, with limited access, the general public.

ANNUAL BURDEN ESTIMATES
Instrument | Number of respondents | Number of responses per respondent | Average burden hours per response | Total burden hours
Intergovernmental Referral Guide: State Profile Guidance—States and Territories | 54 | 18 | 0.3 | 292
Intergovernmental Referral Guide: State User Guide—Foreign Countries | 26 | 2 | 0.1 | 5
Intergovernmental Referral Guide: Tribal Profile Guidance | 52 | 18 | 0.3 | 281

Estimated Total Annual Burden Hours: 578.

Additional Information

Copies of the proposed collection may be obtained by writing to the Administration for Children and Families, Office of Planning, Research and Evaluation, 370 L'Enfant Promenade SW., Washington, DC 20447, Attn: ACF Reports Clearance Officer. All requests should be identified by the title of the information collection. Email address: infocollection@acf.hhs.gov.

OMB Comment

OMB is required to make a decision concerning the collection of information between 30 and 60 days after publication of this document in the Federal Register. Therefore, a comment is best assured of having its full effect if OMB receives it within 30 days of publication. Written comments and recommendations for the proposed information collection should be sent directly to the following:

Office of Management and Budget, Paperwork Reduction Project, Fax: (202) 395-7285, Email: OIRA_SUBMISSION@OMB.EOP.GOV. Attn: Desk Officer for the Administration for Children and Families.

Robert Sargis,
Reports Clearance Officer.

[FR Doc. 2012-879 Filed 1-20-12; 8:45 am]

BILLING CODE 4184-01-P